POSTAL SERVICE

Transfer of Parcel Post to the Competitive Product List

AGENCY: Postal Service™.

ACTION: Notice.

SUMMARY: The Postal Service hereby provides notice that it has filed a request with the Postal Regulatory Commission to transfer Parcel Post from the Mail Classification Schedule's Market-Dominant Product List to its Competitive Product List.

DATES: May 4, 2012.

FOR FURTHER INFORMATION CONTACT: John F. Rosato, 202-268-8597.

SUPPLEMENTARY INFORMATION: On April 26, 2012, the United States Postal Service® filed with the Postal Regulatory Commission a request to transfer Parcel Post from the Mail Classification Schedule's Market-Dominant Product List to its Competitive Product List, pursuant to 39 U.S.C. 3642. The transfer would: (1) Remove Parcel Post from the Market-Dominant Product List; (2) add a nearly identical product called “Parcel Post” to the Competitive Product List, and (3) leave Alaska Bypass Service, which is currently part of Parcel Post, on the Market-Dominant Product List. Documents pertinent to this request are available at http://www.prc.gov, Docket No. MC2012-13.

Stanley F. Mires,
Attorney, Legal Policy & Legislative Advice.

[FR Doc. 2012-10741 Filed 5-3-12; 8:45 am]

BILLING CODE 7710-12-P